DEPARTMENT OF THE INTERIOR

Fish and Wildlife Service

50 CFR Part 17

Endangered and Threatened Wildlife and Plants; 90-Day Finding for a Petition To Revise Critical Habitat for the Cape Sable Seaside Sparrow

AGENCY: Fish and Wildlife Service, Interior.

ACTION: Proposed rule.

SUMMARY: We, the U.S. Fish and Wildlife Service (Service), announce a 90-day finding on a petition to revise critical habitat for the Cape Sable seaside sparrow (Ammodramus maritimus mirabilis), under the Endangered Species Act of 1973, as amended (Act). After review of all available scientific and commercial information, we find that the petition presents substantial information indicating that revising critical habitat for this species may be warranted.

DATES: The finding announced in this notice was made on June 21, 2000. Send your comments and materials to reach us on or before September 8, 2000. We may not consider comments received after the above date in making our decision for the 12-month finding.

ADDRESSES: If you wish to comment, you may submit your comments by any one of several methods. You may mail or hand-deliver comments to the Field Supervisor, U.S. Fish and Wildlife Service, 1360 U.S. Hwy 1, Suite 5, Vero Beach, Florida 32961. You may also comment via the Internet to heather_mcsharry@fws.gov. See Supplementary Information for comment procedures.

FOR FURTHER INFORMATION CONTACT: Mr. Jay Slack at 561/562-3909, extension 234.

SUPPLEMENTARY INFORMATION:

Background

Section 4(b)(3)(D)(i) of the Act and our listing regulations (50 CFR 424.14 (c)(1)) require that we make a finding on whether a petition to revise critical habitat of a species presents substantial scientific or commercial information to demonstrate that the petitioned action may be warranted. We are to base this finding on all information available to us at the time the finding is made. To the maximum extent practicable, we are to make this finding within 90 days of the date we received the petition, and we are to publish the finding promptly in the Federal Register. Our regulations (50 CFR 424.14 (c)(2)(i)) further require that, in making a finding on a petition to revise critical habitat, we consider whether the petition contains information indicating that areas petitioned to be added to critical habitat contain physical and biological features essential to, and that may require special management to provide for, the conservation of the species involved.

On October 22, 1999, we published Listing Priority Guidance for Fiscal Year 2000 (64 FR 57114). The guidance clarifies the order in which we will process rulemakings, giving highest priority to processing emergency listing rules for any species determined to face a significant and imminent risk to its well-being (Priority 1). Second priority (Priority 2) is the processing of final determinations on proposed additions to the lists of endangered and threatened wildlife and plants. Third priority (Priority 3) is the processing of new proposals to add species to the lists. The processing of administrative petition findings (petitions filed under section 4 of the Act) is the fourth priority. This 90-day petition finding is a Priority 4 action and is being completed in accordance with the current Listing Priority Guidance.

On August 26, 1999, the Biodiversity Legal Foundation submitted a petition to us to revise the critical habitat designation for the Cape Sable seaside sparrow. We received the petition on August 31, 1999. On September 29, 1999, we sent a letter to Mr. Sidney B. Maddock, Biodiversity Legal Foundation, acknowledging receipt of the petition.

The petition requested that critical habitat be revised for the Cape Sable seaside sparrow. The petitioner stated that the current designated critical habitat for the Cape Sable seaside sparrow is now inadequate and that part of the critical habitat has been destroyed by conversion to agricultural use. The petitioner asserted that substantial scientific evidence supports designation of marl prairie areas (short-to moderate-hydroperiod areas supporting sparse, clumped vegetation and producing marl soils) historically occupied by the western subpopulation of the sparrow as critical habitat and removal of privately owned agricultural areas from the critical habitat designation. This scientific information, gathered since the listing of the species, indicates that currently designated critical habitat encompassing the marl prairie areas historically occupied by the eastern subpopulations of the sparrow should also include the marl prairie areas historically occupied by the western subpopulation of the sparrow. As part of conservation of the sparrow, protection and management of the western subpopulation habitat area is essential to ensuring the continued existence of the species. The petitioner further asserted that the current designation of critical habitat does not include a detailed discussion of the constituent elements and special management considerations necessary for conservation of the species, as required by the Endangered Species Act, and that sufficient scientific evidence is now available to describe these constituent elements and any special management considerations and protection measures. The petitioner did not provide specific locations for areas to be included in or removed from the critical habitat, but referred to marl prairie areas historically occupied by the western subpopulation of the Cape Sable seaside sparrow and privately owned habitat areas that had been converted to agricultural use.

Since the listing of the Cape Sable seaside sparrow, we have been funding scientific studies and otherwise seeking and soliciting information regarding its status, life-history, and ecology. We also have participated in and funded conservation efforts including habitat protection and management. These efforts have expanded and refined our knowledge about critical habitat for the Cape Sable seaside sparrow. We have conducted numerous section 7 consultations concerning the effects of land and water management plans on the Cape Sable seaside sparrow. Research and monitoring required for these consultations has also contributed to our database regarding critical habitat.

In 1998 we issued a draft revised recovery plan for the sparrow as part of the draft Multi-Species Recovery Plan (MSRP) for South Florida. This document provides a detailed justification for the need to review and redesignate critical habitat. We state in the document that critical habitat, as designated, does not adequately account for the distribution of the present-day core subpopulations, or the areas necessary for the birds to maintain a stable population. An important area west of Shark River Slough, which until 1993 supported one of two critical subpopulations (nearly half of the entire population), is not included within the designation and has been undergoing detrimental changes in habitat structure as a result of water management practices. Additionally, other parts of the designated critical habitat have been converted to agriculture and are no longer occupied by sparrows. Thus, the extent of the critical habitat requires significant review and redesignation. We also state that when we redesignate critical habitat, the constituent elements must be defined. We included a specific task in the draft MSRP that called for a review and revision of the current critical habitat designation based on distribution surveys.

We have reviewed the petition, the information provided in the petition, other literature, and information available in our files. The petition includes much of the information already present in our files. Available information and data indicate that marl prairies along the western flank of Shark River Slough may be essential to the survival and recovery of the Cape Sable seaside sparrow. Therefore, based on the best scientific and commercial information available, we find the petition presents substantial information that revision of critical habitat for the Cape Sable seaside sparrow may be warranted.

We solicit information, including additional comments and suggestions from the public, other concerned governmental agencies, the scientific community, industry, or other interested parties, concerning revision of the critical habitat for the Cape Sable seaside sparrow.

After consideration of additional information, submitted during the indicated time period (see DATES section), we will prepare a 12-month finding, as required by section 4(b)(3)(D)(ii) of the Act and 50 CFR 424.14(c)(3).

Comment Procedures

Please submit Internet comments as an ASCII file, avoiding the use of special characters and any form of encryption. Please also include “Attention: [Cape Sable Seaside Sparrow]” and your name and return address in your Internet message. If you do not receive a confirmation from the system that we have received your Internet message, contact us directly at the address given in the ADDRESSES section or by telephone at 561/562-3909. Finally, you may hand-deliver or mail comments to the address given in the ADDRESSES section. Our practice is to make comments, including names and home addresses of respondents, available for public review during regular business hours. Individual respondents may request that we withhold their home address from the rulemaking record, which we will honor to the extent allowable by law. There also may be circumstances in which we would withhold from the rulemaking record a respondent's identity, as allowable by law. If you wish for us to withhold your name and/or address, you must state this request prominently at the beginning of your comment. However, we will not consider anonymous comments. We will make all submissions from organizations or businesses, and from individuals identifying themselves as representatives or officials of organizations or businesses, available for public inspection in their entirety. Comments and materials received will be available for public inspection, by appointment, during normal business hours at the above address.

Author

The primary author of this document is Heather McSharry, South Florida Field Office (see ADDRESSES section).

Authority: The authority for this action is the Endangered Species Act (16 U.S.C. 1531 et seq.).

Dated: June 21, 2000.
Jamie Rappaport Clark,
Director, Fish and Wildlife Service.

[FR Doc. 00-17260 Filed 7-7-00; 8:45 am]

BILLING CODE 4310-55-P